DEPARTMENT OF THE INTERIOR

Bureau of Ocean Energy Management

[Docket No. BOEM-2017-0055]

Notice of Availability for the Gulf of Mexico Outer Continental Shelf Lease Sale Final Supplemental Environmental Impact Statement 2018; MMAA10400

AGENCY: Bureau of Ocean Energy Management, Interior.

ACTION: Notice of Availability.

SUMMARY: The Bureau of Ocean Energy Management (BOEM) is announcing the availability of the Gulf of Mexico Outer Continental Shelf Lease Sale: Final Supplemental Environmental Impact Statement 2018 (2018 GOM Final Supplemental EIS). The 2018 GOM Final Supplemental EIS provides an analysis of the potential significant impacts of a proposed action (a regionwide lease sale), provides an analysis of reasonable alternatives to the proposed action, and identifies BOEM's preferred alternative. This Supplemental EIS is expected to be used to inform decisions on each of the two lease sales scheduled in 2018 (i.e., proposed Lease Sales 250 and 251) and to be supplemented as necessary for future Gulf of Mexico regionwide lease sales.

ADDRESSES: The Final Supplemental EIS and associated information are available on BOEM's website at http://www.boem.gov/nepaprocess/. BOEM will primarily distribute digital copies of the Final Supplemental EIS on compact discs. You may request a compact disc, a paper copy, or the location of a library with a digital copy of the Final Supplemental EIS from the BOEM, Gulf of Mexico OCS Region, Public Information Office (GM 335A), 1201 Elmwood Park Boulevard, New Orleans, Louisiana 70123-2394 or by telephone at 1-800-200-GULF.

FOR FURTHER INFORMATION CONTACT: For more information on the Final Supplemental EIS, you may contact Mr. Greg Kozlowski, Deputy Regional Supervisor, Bureau of Ocean Energy Management, Gulf of Mexico OCS Region, Office of Environment (GM 623E), 1201 Elmwood Park Boulevard, New Orleans, Louisiana 70123-2394. You may also contact Mr. Greg Kozlowski by telephone at 504-736-2512 or email at greg.kozlowski@boem.gov.

Authority: This Notice of Availability of a Final Supplemental EIS is published pursuant to the National Environmental Policy Act of 1969, as amended (42 U.S.C. 4321 et seq.), and 43 CFR 46.415.

Dated: December 5, 2017.
Walter D. Cruickshank,
Deputy Director, Bureau of Ocean Energy Management.

[FR Doc. 2017-26972 Filed 12-14-17; 8:45 am]

BILLING CODE 4310-MR-P